DEPARTMENT OF TRANSPORTATION

Federal Aviation Administration

14 CFR Part 71

[Docket No. FAA-2004-16983; Airspace Docket No. 04-ACE-1]

Establishment of Class E2 Airspace; and Modification of Class E5 Airspace; Farmington, MO

AGENCY: Federal Aviation Administration (FAA), DOT.

ACTION: Final rule.

SUMMARY: This rule establishes a Class E surface area at Farmington, MO. It also modifies the Class E airspace area extending upward from 700 feet above the surface at Farmington, MO by correcting discrepancies in the Farmington Regional Airport airport reference point.

The effect of this rule is to provide appropriate controlled Class E airspace for aircraft executing instrument approach procedures to Farmington Regional Airport and to segregate aircraft using instrument approach procedures in instrument conditions from aircraft operating in visual conditions.

EFFECTIVE DATE: 0901 UTC, June 10, 2004.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On Thursday, February 19, 2004, the FAA proposed to amend 14 CFR part 71 to establish a Class E surface area and to modify other Class E airspace at Farmington, MO (69 FR 7715). The proposal was to establish a Class E surface area at Farmington, MO. It was also to modify the Class E5 airspace and its legal description by revising the Farmington Regional Airport airport reference point used in the Class E airspace legal description. Interested parties were invited to participate in this rulemaking proceeding by submitting written comments on the proposal to the FAA. No comments objecting to the proposal were received.

The Rule

This amendment to Part 71 of the Federal Aviation Regulations (14 CFR Part 71) establishes Class E airspace designated as a surface area for an airport at Farmington, MO. Controlled airspace extending upward from the surface of the earth is needed to contain aircraft executing instrument approach procedures. Weather observations will be provided by an Automatic Weather Observing/Reporting System (AWOS) and communications will be direct with St. Louis Automated Flight Service Station.

This rule also revises the Class E airspace area extending upward from 700 feet above the surface at Farmington, MO. An examination of this Class E airspace area for Farmington, MO revealed discrepancies in the Farmington Regional Airport airport reference point used in the Class E airspace legal description. This action corrects these discrepancies. The areas will be depicted on appropriate aeronautical charts.

Class E airspace areas designated as surface areas are published in Paragraph 6002 of FAA Order 7400.9L, Airspace Designations and Reporting Points, dated September 2, 2003, and effective September 16, 2003, which is incorporated by reference in 14 CFR 71.1. Class E airspace areas extending upward from 700 feet or more above the surface of the earth are published in Paragraph 6005 of the same Order. The Class E airspace designations listed in this document will be published subsequently in the Order.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

Sec. 71.1 [Amended]

2. The incorporation by reference in 14 CFR 71.1 of Federal Aviation Administration Order 7400.9L, dated September 2, 2003, and effective September 16, 2003, is amended as follows:

Paragraph 6002 Class E Airspace Designated as Surface Areas.

* * * * *

ACE MO E2 Farmington, MO

Farmington Regional Airport, MO

(Lat. 37°45′40″ N., long. 90°25′43″ W.)

Perrine NDB

(Lat. 37°45′54″ N. long. 90°25′45″ W.)

Within a 3.9-mile radius of Farmington Regional Airport and within 2.6 miles each side of the 034° bearing from the Perrine NDB extending from the 3.9-mile radius of the airport to 7 miles northeast of the NDB and within 2.6 miles each side of the 191° bearing from the Perrine NDB extending from the 3.9-mile radius of the airport to 7 miles south of the NDB.

* * * * *

Paragraph 6005 Class E airspace areas extending upward from 700 feet or more above the surface of the earth.

* * * * *

ACE MO E5 Farmington, MO

Farmington Regional Airport, MO

(Lat. 37°45′40″ N., long. 90°25′43″ W.)

Farmington VORTAC

(Lat. 37°40′24″ N., long. 90°14′03″ W.)

Perrine NDB

(Lat. 37°45′54″ N., long. 90°25′45″ W.)

That airspace extending upward from 700 feet above the surface within a 6.4-mile radius of Farmington Regional Airport, and within 2.6 miles each side of the 034° bearing from the Perrine NDB extending from the 6.4-mile radius to 7.9 miles northeast of the airport and within 2.6 miles each side of the 191° bearing from the Perrine NDB, extending from the 6.4-mile radius to 7.9 miles south of the airport and within 1.3 miles each side of the Farmington VORTAC 300° radial extending from the 6.4-mile radius of the airport to the VORTAC.

* * * * *

Issued in Kansas City, MO, on March 24, 2004.
Anthony D. Roetzel,
Acting Manager, Air Traffic Division, Central Region.

[FR Doc. 04-7489 Filed 4-1-04; 8:45 am]

BILLING CODE 4910-13-M